DEPARTMENT OF JUSTICE

National Institute of Corrections

Solicitation for a Cooperative Agreement: Employment Retention

AGENCY: National Institute of Corrections, Department of Justice.

ACTION: Solicitation for a Cooperative Agreement.

SUMMARY: The National Institute of Corrections (NIC) is soliciting proposals from organizations, groups, or individuals who would like to enter into an eighteen-month cooperative agreement to develop a competency-based curriculum to train Employment Retention Specialists, as well as develop an assessment instrument to address both the strengths and risks of offenders in danger of job loss.

DATES: Applications must be received by 4 p.m. EDT on Monday, December 28, 2009.

ADDRESSES: Mailed applications must be sent to: Morris L. Thigpen, Director, National Institute of Corrections, 320 First Street, NW., Room 5007, Washington, DC 20534. Applicants are encouraged to use Federal Express, UPS, or similar service to ensure delivery by the due date.

Hand delivered applications should be brought to 500 First Street, NW., Washington, DC 20534. At the front desk, dial 7-3106, extension 0 for pickup.

Faxed applications will not be accepted. Electronic applications can be submitted via http://www.grants.gov.

FOR FURTHER INFORMATION CONTACT: A copy of this announcement can be downloaded from the NIC Web site at http://www.nicic.gov. Any technical questions may be directed to Pam Davison via e-mail at pdavison@bop.gov. All programmatic questions concerning this announcement should be directed to Patricia E. Taylor, Correctional Program Specialist, National Institute of Corrections. She can be reached by calling 1-800-995-6425, extension 39354 or by e-mail at petaylor@bop.gov.

Overview: The National Institute of Corrections' (NIC) Transition and Offender Workforce Development Division (T/OWD Division) is seeking applications for the development of a competency-based, blended, e-learning and classroom training curriculum that will provide Employment Retention Specialists with the knowledge and skills needed for the provision of employment retention services for those identified as having barriers to sustained employment.

The curriculum to be used in training Employment Retention Specialists (Practitioners) will apply the cognitive-behavioral model of relapse prevention to job loss. Practitioners trained as Employment Retention Specialists will develop the competencies needed to assist offenders in analyzing the chain of events, behaviors and individual precursors that impact gainful employment and result in their separation from the workforce.

Background: Research shows a lack of employment may contribute to an offender's continued criminal activity. Additional studies show that low levels of personal, educational, vocational, and financial achievement, and in particular, an unstable employment record, are among the predictors of continued criminal conduct. Therefore, ways of overcoming barriers to long-term employment, as a factor in the desistance to crime, warrants the development of innovative approaches for offender employment service providers.

New and effective ways of overcoming barriers to long-term employment may be found in the parallels between relapse prevention and offender employment retention. When the cognitive behavioral model of relapse prevention is applied to employment retention, the targeted behavior becomes maintained employment, and the initial lapse is the occurrence of signs. Practitioners having the competencies to assist offenders to become successful in maintaining a long-term connection to the workforce will be able to assess those at high risk for job loss, identify specific indicators and analyze the chain of events and behaviors that lead to job loss.

Purpose: The purpose of this initiative is two-fold. First, the awardee will be required to develop a competency-based, train-the-trainer curriculum for Offender Employment Retention Specialist that can be professionally endorsed and certified.

The training, delivered by a blended approach, will be the third offender workforce development knowledge block for the Division (Offender Workforce Development Specialist and Offender Employment Specialist being the other two). Knowledge blocks are a collection of knowledge on a particular subject matter that can be combined with other collections or blocks of knowledge. The concept of knowledge blocks is influenced by principles of adult learning theory and practices utilized in post-secondary education.

In addition, the awardee will be required to develop an Employment Services Inventory (ESI). This assessment tool will be used to identify precursors to job loss while creating a process to connect the targeted population to specialized services to successfully address their risk for job loss.

Scope of Work: The training curriculum will be based on a recently established needs assessment identified through the use of a DACUM (Development of a Curriculum) for Employment Retention Specialists. This DACUM assisted in the identification of the critical duty bands and job tasks of Employment Retention Specialists working with offenders.

Trainees will be taught the essential skills for facilitating (train-the-trainer) the training to other professionals that assist offenders in the development and utilization of a plan to identify and avoid high-risk situations while teaching skills to satisfactorily cope with circumstances that typically indicate impending job loss and/or result in a separation from the workforce.

The curriculum should be developed using the Instructional Theory Into Practice (ITIP) model and consist of approximately six (6) to eight (8) e-learning modules and, as necessary, classroom training. The awardee should have expertise in identifying the knowledge, skills and experience that lead to professional certification, as well as establish quality standards that would result in endorsement by a professional organization.

The awardee will be required to develop a tool/instrument to monitor and evaluate the piloted curriculum—using the captured data to adjust and/or modify the curriculum as needed. In addition, pre/post evaluations and quizzes should be developed along with a follow-up questionnaire to measure the trainees' mastery of established competencies.

Modules may address the following: Motivational Interviewing; Supportive Case Management; Employability Skills; Employment Readiness Classes/Skills; Labor Market Information; Collaboration with External Agencies; Relationships with Employers; Cognitive Behavioral Theory, and Gender Responsivity.

Required Expertise: Successful applicants will be able to demonstrate their knowledge/experience in the following areas: Offender Workforce Development; Employment Retention; Cognitive Behavioral Therapy; Behavioral Health Issues; Risk/Needs Assessment Tools; Criminogenic Needs; Strength-based Approaches; Relapse Prevention, and Professional Certification/Endorsement Procedures.

Application Requirements: Applications should be concisely written, typed double spaced (not to exceed 20 pages) and reference the project by the “NIC Opportunity Number” and Title in this announcement. The package must include: a cover letter that identifies the audit agency responsible for the applicant's financial accounts as well as the audit period or fiscal year that the applicant operates under (e.g., July 1 through June 30); a program narrative in response to the statement of work and a budget narrative explaining projected costs. The following forms must also be included: OMB Standard Form 424, Application for Federal Assistance; OMB Standard Form 424A, Budget information—Non-Construction Programs; OMB Standard Form 424B, Assurances—Non-Construction Programs (these forms are available at http://www.grants.gov) and DOJ/NIC Certification Regarding Lobbying; Debarment, Suspension and Other Responsibility Matters and the Drug-Free Workplace Requirements (available at http://www.nicic.gov/Downloads/PDF/certif-frm.pdf.)

Applications may be submitted in hard copy, or electronically via http://www.grants.gov. If submitted in hard copy, please include an original and three copies of the full proposal (program and budget narratives, application forms and assurances). The original should have the applicant's signature in blue ink.

Authority: Public Law 93-415.

Funds Available: NIC is seeking the applicant's best ideas regarding accomplishment of the scope of work and the related costs for achieving the goals of this solicitation. The final budget and award amount will be negotiated between NIC and the successful applicant. Funds may only be used for the activities that are linked to the desired outcome of the project.

This project will be a collaborative venture with the NIC's Transition and Offender Workforce Development Division and Academy.

Eligibility of Applicants: An eligible applicant is any public or private agency, educational institution, organization, individual or team with expertise in the described areas.

Review Considerations: Applications received under this announcement will be subjected to a 3 to 5 person NIC Peer Review Process. The criteria for the evaluation of each application will be as follows:

Programmatic (60%)

Is there demonstrated knowledge of—NIC's Offender Workforce Development training? offender employment barriers and offender risk/needs assessment instruments? techniques and/or interventions that successfully address offender retention issues? curriculum development and certification/endorsement procedures? Are project goals/tasks adequately discussed? Is there a clear statement of how project goals will be accomplished, to include: Major tasks that will lead to achieving the goal; the strategies to be employed; required staffing and other required resources? Are there any innovative approaches, techniques, or design aspects proposed that will enhance the project?

Organizational (20%)

Do the skills, knowledge, and expertise of the organization and the proposed project staff demonstrate a high level of competency to carry out the tasks? Does the applicant/organization have the necessary experience and organizational capacity to carry out all goals of the project? Are the proposed project management and staffing plans realistic and sufficient to complete the project within the 12-month time frame?

Project Management/Administration (20%)

Does the applicant identify reasonable objectives, milestones, and measures to track progress? If consultants and/or partnerships are proposed, is there a reasonable justification for their inclusion in the project and a clear structure to insure effective coordination? Is the proposed budget realistic and provide sufficient cost detail/narrative, and represent good value relative to the anticipated results?

Note: NIC will NOT award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option 1).

Registration in the CRR can be done online at the CCR Web site: http://www.ccr.gov. A CCR Handbook and worksheet can also be reviewed at the Web site.

Number of Awards: One.

NIC Opportunity Number: 10K121. This number should appear as a reference line in the cover letter, where indicated on Standard Form 424, and outside of the envelope in which the application is sent.

Catalog of Federal Domestic Assistance Number: 16.601.

Executive Order 12372: This project is not subject to the provisions of Executive Order 12372.

Morris L. Thigpen,
Deputy Director, National Institute of Corrections.

[FR Doc. E9-29008 Filed 12-3-09; 8:45 am]

BILLING CODE 4410-36-P